DEPARTMENT OF COMMERCE

National Oceanic and Atmospheric Administration

RIN 0648-XA315

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Ecosystems and Ocean Planning Committee, its Squid, Mackerel, and Butterfish Committee, its Spiny Dogfish Committee, and its Executive Committee will hold public meetings.

DATES: Tuesday, April 12, 2011 through Thursday, April 14, 2011. On Tuesday, April 12—The Ecosystems and Ocean Planning Committee will meet from 2 p.m. until 5 p.m. On Wednesday, April 13—The Squid, Mackerel, and Butterfish Committee will meet from 8:30 a.m. until 11 a.m. From 11 a.m. until 12 p.m. there will be a Squid Trawl Proposed Rule Highly Migratory Species (HMS) Presentation. From 1 p.m. to 3 p.m. there will be a continuation of the Squid, Mackerel, and Butterfish Committee. The Spiny Dogfish Committee will meet from 3 p.m. until 5 p.m. There will be a Public Listening Session from 5 p.m. until 6 p.m. On Thursday, April 14—The Executive Committee will meet from 8 a.m. until 9 a.m. The Council will convene at 9 a.m. A 3-Year Standardized Bycatch Reporting Methodology Report (SBRM) will be from 9 a.m. until 10 a.m. There will be a Bureau of Ocean Energy Management, Regulation and Enforcement (BOEMRE) Presentation from 10 a.m. until 11 a.m. From 11 a.m. until 11:30 a.m. the Council will receive an Update on Amendment 6 to the Monkfish Fishery Management Plan (FMP). The Council will hold its regular Business Session from 11:30 a.m. until 1:30 p.m. to approve the February 2011 minutes, receive Organizational Reports, the South Atlantic Liaison Report, the Executive Director's Report, the Science Report, Committee Reports, and conduct any continuing and/or new business.

ADDRESSES: Historic Inns of Annapolis, 58 State Circle, Annapolis, MD 21401; telephone: (410) 263-2641.

Council Address: Mid-Atlantic Fishery Management Council, 800 N. State St., Suite 201, Dover, DE 19901; telephone: 302-674-2331.

FOR FURTHER INFORMATION CONTACT: Christopher M. Moore, PhD, Executive Director, Mid-Atlantic Fishery Management Council; telephone: 302-526-5255.

SUPPLEMENTARY INFORMATION: Agenda items by day for the Council's Committees and the Council itself are: On Tuesday, April 12—The Ecosystems and Oceans Planning Committee will prioritize recommendations from the December Workshop. On Wednesday, April 13—The Squid, Mackerel, and Butterfish Committee will review Advisory Panel (AP) Membership, review Amendment 14 analysis and direct the Fishery Management Action Team (FMAT), and adjust Amendment 14 range of alternatives as appropriate. The Council will hear an HMS presentation on the Squid Trawl Proposed Rule and look at options to minimize discards of swordfish in the Illex fishery and the trawl retention limits for incidental catch of smooth dogfish. The Spiny Dogfish Committee will identify action alternatives for Amendment 3. There will be a Public Listening Session where the Council invites the public to engage Council leadership and NMFS representatives in a Q & A roundtable session. Those in attendance will be able to ask questions or comment on any issue related to Mid-Atlantic Fisheries Management including annual specifications, ecosystem management, bycatch reduction, catch shares, etc. On Thursday, April 14—The Executive Committee will discuss the Council budget, the process and timeline for 2012 specifications, the AP Performance Report, the ecosystem based fisheries management goals and objectives, the Advisory Panel composition and governance, Council communications, and hold a NRCC Meeting review. Dr. Paul Rago will provide the Council with a presentation regarding the 3-Year SBRM Report. The Council will hear a BOEMRE presentation which will provide the Council with an overview of offshore wind energy, introduction to the Smart from the Start Energy Initiative, and an overview of the Proposed Mid-Atlantic Wind Energy Areas. Howard King will provide the Council with an update on Amendment 6 to the Monkfish FMP. The Council will hold its regular Business Session to approve the February 2011 minutes, receive Organizational Reports, hear the South Atlantic Liaison Report, the Executive Director's Report, the Science Report, Committee Reports, and conduct any continuing and/or new business.

Special Accommodations

This meeting is physically accessible to people with disabilities. Requests for sign language interpretation or other auxiliary aid should be directed to M. Jan Saunders (302-526-5251) at least five days prior to the meeting date.

Dated: March 21, 2011.
Tracey L. Thompson,
Acting Director, Office of Sustainable Fisheries, National Marine Fisheries Service.

[FR Doc. 2011-6954 Filed 3-23-11; 8:45 am]

BILLING CODE 3510-22-P